FEDERAL MEDIATION AND CONCILIATION SERVICE

Labor-Management Cooperation Grant Program Information Collection Request

AGENCY: Federal Mediation and Conciliation Service.

ACTION: Submission for OMB Review: Comment Request.

SUMMARY: The Federal Mediation and Conciliation Service (FMCS) hereby announces the submission of the following public information collection request (ICR) to the Office of Management and Budget (OMB) for review and approval in accordance with the Paperwork Reduction Act of 1995 (Pub. L. 104-13). This information collection, “Labor-Management Cooperation Grant Program Information Collection Request” (OMB Control No. 3076-0006) will be used to collect information to determine applicant suitability, to monitor grant project status and for grant program evaluation.

The OMB is particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected;

(iv) Minimize the burden of the collection of information on those who are to respond, including the use of appropriate automated electronic collection technologies or other forms of information technology, e.g. permitting electronic and fax submission of responses.

Approximately 40 respondents will complete the grant kit annually. The estimated burden per respondent is 4.5 hours. The estimated total annual burden is 180 hours.

Affected Entities: Potential applicants and/or grantees who received our grant application kit. Also applicants who have received a grant from FMCS.

DATES: Comments should be received by OMB within 30 calendar days from the date of this publication.

ADDRESSES: Send comments to: E-mail: oira_submission@omb.eop.gov. Please include the FMCS form number, if applicable, the information collection title and the OMB control number in the subject line of your message. Comments may also be sent to fax number 202.395.5806 to the Attention of Desk Officer for FMCS.

SUPPLEMENTARY INFORMATION: For additional information, see the related 60-day notice published in the Federal Register at Vol. 76, No. 16 on January 25, 2011.

Dated: March 28, 2011.
Michael J. Bartlett,
Deputy General Counsel.

[FR Doc. 2011-7674 Filed 3-31-11; 8:45 am]

BILLING CODE 6732-01-P